DEPARTMENT OF TRANSPORTATION

Federal Highway Administration

Notice of Final Federal Agency Actions on Proposed Highway Projects in Texas

AGENCY: Texas Department of Transportation (TxDOT), Federal Highway Administration (FHWA), U.S. Department of Transportation.

ACTION: Notice of limitation on claims for judicial review of actions by TxDOT and Federal agencies.

SUMMARY: This notice announces actions taken by TxDOT and Federal agencies that are final. The environmental review, consultation, and other actions required by applicable Federal environmental laws for these projects are being, or have been, carried out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is February 21, 2025. If the Federal law that authorizes judicial review of a claim provides a time period of less than 150 days for filing such a claim, then that shorter time period still applies.

FOR FURTHER INFORMATION CONTACT: Patrick Lee, Environmental Affairs Division, Texas Department of Transportation, 125 East 11th Street, Austin, Texas 78701; telephone: (512) 416-2358; email: Patrick.Lee@txdot.gov. TxDOT's normal business hours are 8:00 a.m.-5:00 p.m. (central time), Monday through Friday.

SUPPLEMENTARY INFORMATION: The environmental review, consultation, and other actions required by applicable Federal environmental laws for these projects are being, or have been, carried out by TxDOT pursuant to 23 U.S.C. 327 and a Memorandum of Understanding dated December 9, 2019, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting the local TxDOT office at the address or telephone number provided for each project below.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377] (Section 404, Section 401, Section 319); Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Executive Orders: E.O. 11990 Protection of Wetlands; E.O. 11988 Floodplain Management; E.O. 12898 Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. SH 36 from IH 69 South to FM 2218, Fort Bend County, Texas. The project will widen and reconstruct SH 36 from a two-lane (one in each direction) undivided roadway to a four-lane (two in each direction) divided roadway. Sidewalks will be added along both sides of SH 36 for pedestrians and cyclists would utilize a bike lane separated from the roadway with a buffer. The project is approximately 2.9 miles in length. The actions by TxDOT and Federal agencies and the laws under which such actions were taken are described in the Categorical Exclusion Determination issued on June 7, 2024, and other documents in the TxDOT project file. The Categorical Exclusion Determination and other documents in the TxDOT project file are available by contacting the TxDOT Houston District Office at 7600 Washington Avenue, Houston, TX 77007; telephone: (713) 802-5000.

2. I-20 from US 83 to Buck Greek Road, Taylor and Callahan Counties, Texas. The project will improve the existing I-20 facility from east of US 83 to near Buck Greek Road, a length of approximately 10.34 miles. The project will widen I-20 to three 12-foot-wide mainlanes, 10-foot wide inside and outside shoulders, two to three 12-foot-wide frontage road lanes, and a 10-foot-wide shared-use path in each direction. The mainlanes will be separated by a concrete barrier. Storm sewer will be used to convey stormwater and will replace the ditches in some places. Curb and gutter will be added to frontage roads. The project will also include ramp reconfigurations, access changes, turnarounds lanes, and intersection improvements at various locations. The actions by TxDOT and Federal agencies and the laws under which such actions were taken are described in the Categorical Exclusion Determination issued on June 14, 2024, and other documents in the TxDOT project file. The Categorical Exclusion Determination and other documents in the TxDOT project file are available by contacting the TxDOT Abilene District Office at 4250 N Clack, Abilene, TX 79601; telephone: (325) 676-6817.

3. US 54 expansion from FM 2677 to the Oklahoma State Line, Sherman County, Texas. The project will widen the existing roadway to a four-lane divided highway with two, 12-foot travel lanes in each direction, 10-foot shoulders, a separated median within the rural area and a center 14-foot turn lane within urban limits. Existing rest stops will be removed and consolidated to one new truck parking location. The project length is approximately 19.1 miles. The actions by TxDOT and Federal agencies and the laws under which such actions were taken are described in the Categorical Exclusion Determination issued on July 1, 2024, and other documents in the TxDOT project file. The Categorical Exclusion Determination and other documents in the TxDOT project file are available by contacting the TxDOT Amarillo District Office at 5715 Canyon Drive, Amarillo, TX 79110; telephone: (806) 356-3256.

4. SH 174 Lane Addition from Wicker Hill Rd to North of Elk Dr, Johnson County, Texas. The project will extend for a total of approximately 1.95 miles along SH 174 in Burleson, from the intersection of SH 174 and Wicker Hill Road, to approximately 0.23 miles north of Elk Drive. The SH 174 roadway will be widened to include three northbound 11-foot-wide general purpose travel lanes and three southbound 11-foot-wide general purpose travel lanes, with 8-foot-wide shoulders. Inside and outside turn lanes will be added at various intersections along SH 174. Sidewalks are proposed throughout the project corridor. The actions by TxDOT and Federal agencies and the laws under which such actions were taken are described in the Categorical Exclusion Determination issued on July 15, 2024, and other documents in the TxDOT project file. The Categorical Exclusion Determination and other documents in the TxDOT project file are available by contacting the TxDOT Fort Worth District Office at 2501 S W Loop 820 Fort Worth, TX 76133; telephone: (817) 370-6744.

5. Center Street Extension from Bardin Rd to SE Green Oaks Blvd., Tarrant County, Texas. The project will extend Center Street from East Bardin Road to Southeast Green Oaks Boulevard and will connect Center Street (Dr. Martin Luther King, Jr. Drive) from East Bardin Road to Engleside Drive, with pavement markings carrying through to Southeast Green Oaks Boulevard. The total project length is approximately 1.18 miles. The new roadway will be an extension of the existing Center Street, with two northbound lanes and two southbound lanes separated by a raised median. The actions by TxDOT and Federal agencies and the laws under which such actions were taken are described in the Categorical Exclusion Determination issued on July 15, 2024, and other documents in the TxDOT project file. The Categorical Exclusion Determination and other documents in the TxDOT project file are available by contacting the TxDOT Fort Worth District Office at 2501 SW Loop 820 Fort Worth, TX 76133; telephone: (817) 370-6744.

6. FM 1053 from FM 11 to 10 miles south of FM 1450, Pecos County, Texas. The project will relocate the portion of FM 1053 that current exists from FM 11 in Imperial to approximately 10 miles south of FM 1450, a distance of approximately 17 miles. This portion of FM 1053 will be relocated to the existing Buena Vista Road, from FM 11, approximately 5 miles southeast of the current FM 1053 intersection with FM 11, to approximately 10 miles south of FM 1450, a distance of approximately 16 miles. The proposed FM 1053 roadway will consist of two undivided 12-foot-wide travel lanes with 10-foot-wide shoulders. Drainage will consist of open ditches and single pipe culverts at driveways. The project will include replacing/updating the existing bridge-class culvert. The actions by TxDOT and Federal agencies and the laws under which such actions were taken are described in the Categorical Exclusion Determination issued on August 5, 2024, and other documents in the TxDOT project file. The Categorical Exclusion Determination and other documents in the TxDOT project file are available by contacting the TxDOT Odessa District Office at 3901 E Highway 80, Odessa, TX 79761; telephone: (432) 498-4697.

7. Loop 250 at Todd Road, Midland County, Texas. The project will construct main lanes between Fairgrounds Road and CR 1150 and an overpass at the intersection of Todd Drive. The main lanes and overpass will consist of two 12-foot lanes in each direction, with 10-foot outside shoulders and 4-foot inside shoulders. The project will also construct an at-grade intersection under the overpass at Todd Drive, along with turnaround lanes. The actions by TxDOT and Federal agencies and the laws under which such actions were taken are described in the Categorical Exclusion Determination issued on August 28, 2024, and other documents in the TxDOT project file. The Categorical Exclusion Determination and other documents in the TxDOT project file are available by contacting the TxDOT Odessa District Office at 3901 E Highway 80, Odessa, TX 79761; telephone: (432) 498-4697.

8. South Zarzamora Street from US 90 to Jennings Avenue, Bexar County, Texas. The project will realign South Zarzamora Street from US 90 to Jennings Avenue and construct a grade separation over the Frio City Road/Kirk Place and Union Pacific Railroad (UPRR) intersections. The project is approximately 0.8 miles. The actions by TxDOT and Federal agencies and the laws under which such actions were taken are described in the Final Environmental Assessment (EA), the Finding of No Significant Impact (FONSI) issued on June 21, 2024, and other documents in the TxDOT project file. The EA, FONSI, and other documents in the TxDOT project file are available by contacting the TxDOT San Antonio District Office at 4615 NW Loop 410, San Antonio, TX 78229; telephone: (210) 615-5839.

9. FM 812 from US 183 to SH 21, Travis and Bastrop Counties, Texas. The project will include the realignment of a 1.46-mile section of FM 812 between US 183 and FM 973 and will upgrade FM 812 from a two-lane undivided roadway to a four-lane divided roadway. The project will also include improvements to a 0.75-mile portion of FM 973 from 0.1-mile north of McAngus Road to 0.2-mile south of FM 812. The project is approximately 9.49 miles long. The actions by TxDOT and Federal agencies and the laws under which such actions were taken are described in the Final Environmental Assessment (EA), the Finding of No Significant Impact (FONSI) issued on June 27, 2024, and other documents in the TxDOT project file. The EA, FONSI, and other documents in the TxDOT project file are available by contacting the TxDOT Austin District Office at 7901 North I-35, Austin, TX 78753; telephone: (512) 832-7000.

10. SH 249 from BW-8 N to I-45 N, Harris County, Texas. The project will reconstruct and widen SH 249 from BW 8 N to I-45 N from a six-lane roadway to an eight-lane divided roadway, for a total distance of 7.2 miles. Directions of travel will be separated by a raised median varying from 6 to 30 feet wide. Turn bays for left and right movements will be added at major intersections. Ten-foot-wide sidepaths will be constructed on both sides of the roadway near the right-of-way limits. The actions by TxDOT and Federal agencies and the laws under which such actions were taken are described in the Final Environmental Assessment (EA), Finding of No Significant Impact (FONSI) issued on July 9, 2024 and other documents in the TxDOT project file. The EA, FONSI, and other documents in the TxDOT project file are available by contacting the TxDOT Houston District Office at 7600 Washington Avenue, Houston, TX 77007; telephone: (713) 802-5000.

Authority: 23 U.S.C. 139(l)(1).

Michael T. Leary,
Director, Planning and Program Development, Federal Highway Administration.

[FR Doc. 2024-21771 Filed 9-23-24; 8:45 am]

BILLING CODE 4910-22-P